DEPARTMENT OF HOMELAND SECURITY

Coast Guard

33 CFR Part 100

[CGD05-06-022]

RIN 1625-AA08

Special Local Regulations for Marine Events; Chesapeake Bay Bridges Swim Races, Chesapeake Bay, MD

AGENCY: Coast Guard, DHS.

ACTION: Notice of enforcement of regulation.

SUMMARY: The Coast Guard is implementing the special local regulations at 33 CFR 100.507 during the Annual Great Chesapeake Bay Swim and Chesapeake Challenge One Mile Swim events to be held on June 11, 2006. This action is necessary to provide for the safety of life on navigable waters before, during and after the event. The effect will be to restrict general navigation in the regulated area for the safety of event participants, and support vessels in the event area.

DATES: Effective Date: 33 CFR 100.507 will be enforced from 8:30 a.m. to 5 p.m. on June 11, 2006.

FOR FURTHER INFORMATION CONTACT: Ronald Houck, Marine Events Coordinator, Commander, Coast Guard Sector Baltimore, 2401 Hawkins Point Road, Baltimore, MD 21226-1971, and (410) 576-2674.

SUPPLEMENTARY INFORMATION: The Great Chesapeake Bay Swim, Inc., will sponsor the “Great Chesapeake Bay Swim” and the “Chesapeake Challenge One Mile Swim” on the waters of the Chesapeake Bay between and adjacent to the spans of the William P. Lane Jr. Memorial Bridge. Approximately 650 swimmers will start Great Chesapeake Bay Swim from Sandy Point State Park and swim between the spans of the William P. Lane Jr. Memorial Bridge to the Eastern Shore. Approximately 400 swimmers will start the Chesapeake Challenge One Mile Swim following a triangular shaped course beginning and ending at Hemingway's restaurant on the Eastern Shore adjacent to the William P. Lane Jr. Memorial Bridge. A large fleet of support vessels will be accompanying the swimmers. Therefore, to ensure the safety of participants and support vessels, 33 CFR 100.507 will be enforced for the duration of the event. Under provisions of 33 CFR 100.507, from 8:30 a.m. to 5 p.m. on June 11, 2006, vessels may not enter the regulated area unless they receive permission from the Coast Guard Patrol Commander. Vessel traffic will be allowed to transit the regulated area as the swim progresses, when the Patrol Commander determines it is safe to do so.

In addition to this notice, the maritime community will be provided extensive advance notification via the Local Notice to Mariners, and marine information broadcasts so mariners can adjust their plans accordingly.

Dated: March 23, 2006.
Larry L. Hereth,
Rear Admiral, U.S. Coast Guard, Commander, Fifth Coast Guard District.

[FR Doc. 06-3178 Filed 3-31-06; 8:45 am]

BILLING CODE 4910-15-P